DEPARTMENT OF TRANSPORTATION

Federal Aviation Administration

RTCA, Special Committee 194; ATM Data Link Implementation

Pursuant to section 10(a)(2) of the Federal Advisory Committee Act (Pub. L. 92-463, 5 U.S.C., Appendix 2), notice is hereby given for Special Committee 194 meeting to be held July 10-13, 2000, starting at 9:00 a.m. The meeting will be held at RTCA, 1140 Connecticut Ave., NW, Suite 1020, Washington, DC 20036.

The agenda will include: July 10: Working Group (WG) 3, Human Factors. July 11: WG-1, Data Link Ops Concept & Implementation Plan; WG-3, Human Factors; WG-4, Service Provider Interface. July 12: WG-1, Data Link Ops Concept & Implementation Plan; WG-3, Human Factors; WG-4, Service Provider Interface. July 13: Plenary Session: (1) Welcome and Introductory Remarks; (2) Review Agenda; (3) Review/Approve of Previous Meetings; (4) Working Group Reports; (5) Other Business; (13) Date and Location of Future Meetings; (14) Closing.

Attendance is open to the interested public but limited to space availability. With the approval of the chairman, members of the public may present oral statements at the meeting. Persons wishing to present statements or obtain information should contact the RTCA Secretariat, 1140 Connecticut Avenue, NW., Suite 1020, Washington, DC. 20036; (202) 833-9339 (phone); (202) 833-9434 (fax); or http://www.rtca.org (web site). Members of the public may present a written statement to the committee at any time.

Issued in Washington, DC, on June 14, 2000.
Jane P. Caldwell,
Designated Official.

[FR Doc. 00-15538 Filed 6-19-00; 8:45 am]

BILLING CODE 4910-13-M